DEPARTMENT OF COMMERCE

National Oceanic and Atmospheric Administration

RIN 0648-XF436

North Pacific Fishery Management Council; Public Meeting

AGENCY: National Marine Fisheries Service (NMFS), National Oceanic and Atmospheric Administration (NOAA), Commerce.

ACTION: Notice of an Outreach meeting of the North Pacific Fishery Management Council and St. Paul Residents.

SUMMARY: The North Pacific Fishery Management Council (Council) will meet June 26 through June 27, 2017.

DATES: Several Council members and Council staff will be meeting with community members and organizations on Monday, June 26 and Tuesday, June 27, 2017.

ADDRESSES: Meetings will be held in the Community Center on St. Paul Island, AK.

Council address: North Pacific Fishery Management Council, 605 W. 4th Ave., Suite 306, Anchorage, AK 99501-2252; telephone: (907) 271-2809.

FOR FURTHER INFORMATION CONTACT: Steve MacLean, Council staff; telephone: (907) 271-2809.

SUPPLEMENTARY INFORMATION:

Agenda

Monday, June 26, 2017 Through Tuesday, June 27, 2017

Public outreach meetings with St. Paul community members and organizations will be held. Issues for discussion will include the local halibut fishery and halibut bycatch, the Bering Sea Crab fishery, conservation of Northern Fur Seals, and other pertinent fishery management issues. All meetings are open to the public. The Agenda is subject to change, and the latest version will be posted at http://www.npfmc.org/.

Although other non-emergency issues not on the agenda may come before this group for discussion, those issues may not be the subject of formal action during these meetings. Actions will be restricted to those issues specifically listed in this notice and any issues arising after publication of this notice that require emergency action under Section 305(c) of the Magnuson-Stevens Fishery Conservation and Management Act, provided the public has been notified of the Council's intent to take final action to address the emergency.

Special Accommodations

These meetings are physically accessible to people with disabilities. Requests for sign language interpretation or other auxiliary aids should be directed to Shannon Gleason at (907) 271-2809 at least 7 working days prior to the meeting date.

Dated: June 8, 2017.
Tracey L. Thompson,
Acting Deputy Director, Office of Sustainable Fisheries, National Marine Fisheries Service.

[FR Doc. 2017-12257 Filed 6-13-17; 8:45 am]

BILLING CODE 3510-22-P